DEPARTMENT OF COMMERCE

National Institute of Standards and Technology

Jointly Owned Invention Available for Licensing

AGENCY: National Institute of Standards and Technology, Commerce

ACTION: Notice.

SUMMARY: The invention listed below is jointly owned by the U.S. Government, as represented by the Department of Commerce, and Cree Inc. The Department of Commerce's interest in the invention is available for licensing, in accordance with 35 U.S.C. 207 and 37 CFR part 404 to achieve expeditious commercialization of results of federally funded research and development.

FOR FURTHER INFORMATION CONTACT: Technical and licensing information on this invention may be obtained by writing to: National Institute of Standards and Technology, Office of Technology Partnerships, Attn: Mary Clague, Building 222, Room A155, Gaithersburg, MD 20899. Information is also available via telephone: 301-975-4188, fax 301-869-2751, or e-mail: mary.clague@nist.gov. Any request for information should include the NIST Docket number or Patent number and title for the invention as indicated below.

The invention available for licensing is:

[DOCKET NUMBER 06-008US]

Title: Power Switching Semiconductor Devices Including Rectifying Junction-Shunts.

Abstract: A semiconductor device includes a drift layer having a first conductivity type and a body region adjacent the drift layer. The body region has a second conductivity type opposite the first conductivity type and forms a p-n junction with the drift layer. The device further includes a contactor region in the body region and having the first conductivity type, and a shunt channel region extending through the body region from the contactor region to the drift layer. The shunt channel region has the first conductivity type. The device further includes a first terminal in electrical contact with the body region and the contactor region, and a second terminal in electrical contact with the drift layer. The shunt channel region has a length, thickness and doping concentration selected that: (1) The shunt channel region is fully depleted when zero voltage is applied across the first and second terminals, (2) the shunt channel becomes conductive at voltages less than the built-in potential of the drift layer to body region p-n junction, and/or (3) the shunt channel is not conductive for voltages that reverse biase the p-n junction between the drift region and the body region.

Dated: November 29, 2006.
James E. Hill,
Acting Deputy Director.

[FR Doc. E6-20582 Filed 12-4-06; 8:45 am]

BILLING CODE 3510-13-P